FEDERAL LABOR RELATIONS AUTHORITY

5 CFR Parts 2417, 2429, 2471, and Appendix A to 5 CFR Chapter XIV

Changes in Filing Addresses and Procedures

AGENCY: Federal Labor Relations Authority, General Counsel of the Federal Labor Relations Authority, and Federal Service Impasses Panel.

ACTION: Final rule.

SUMMARY: The Federal Labor Relations Authority (FLRA), including the Office of the General Counsel (OGC), and the Federal Service Impasses Panel (FSIP), are amending their regulations to update their addresses and telephone numbers, and to eliminate the requirement that parties file four copies of original documents that they file with: the FLRA's three-member, decisional component (the Authority); the OGC; and the FLRA's Administrative Law Judges, Regional Directors, and Hearing Officers.

DATES: This final rule is effective on March 1, 2024.

FOR FURTHER INFORMATION CONTACT: Erica Balkum, Chief, Office of Case Intake and Publication at ebalkum@flra.gov or at: (771) 444-5805.

SUPPLEMENTARY INFORMATION: Due primarily to budgetary constraints, the FLRA is consolidating its office space at 1400 K Street NW, Washington, DC, so that all of the offices currently on the second floor of that address will now be located on the third floor of that address, along with the other FLRA offices that are already located on the third floor. The FLRA is updating its rules to reflect that consolidation and new telephone numbers. The FLRA is also updating telephone numbers and addresses for regional offices that changed since the last update to the regulation, and making one minor change to clarify that “Panama,” rather than “Panama/limited jurisdiction,” is excluded from the Washington Regional Office's geographic jurisdiction.

In addition, as part of its continued move towards fully electronic case files, and to alleviate parties' filing burdens, the FLRA is amending 5 CFR 2429.25(a) to eliminate the requirement that parties file four copies of original documents that they file with: the Authority; the OGC; and the FLRA's Administrative Law Judges, Regional Directors, and Hearing Officers. Because 5 CFR 2429.25(b)(1) provides an exception to the four-copies requirement for documents filed by facsimile, the amendment to § 2429.25(a) renders § 2429.25(b)(1) unnecessary. Therefore, the FLRA is also amending § 2429.25(b) to remove current subsection (b)(1), and to redesignate subsections (b)(2) through (b)(4) as subsections (b)(1) through (b)(3). The FLRA also is making a minor punctuation change to § 2429.25(a).

As this rule pertains to agency organization, practice, or procedure, it is exempt from prior notice and public comment under 5 U.S.C. 553(b)(A). For the same reason, under 5 U.S.C. 553(d)(3), the FLRA and FSIP find that good cause exists for not providing a more delayed effective date.

Regulatory Flexibility Act Certification

Pursuant to section 605(b) of the Regulatory Flexibility Act, 5 U.S.C. 605(b), the Chairman of the FLRA has determined that this final rule will not have a significant impact on a substantial number of small entities, because this final rule applies only to Federal agencies, Federal employees, and labor organizations representing those employees.

Executive Order 12866, Regulatory Review

The FLRA is an independent regulatory agency and thus is not subject to the requirements of E.O. 12866 (58 FR 51735, Sept. 30, 1993).

Executive Order 13132, Federalism

The FLRA is an independent regulatory agency and thus is not subject to the requirements of E.O. 13132 (64 FR 43255, Aug. 4, 1999).

Unfunded Mandates Reform Act of 1995

This final rule will not result in the expenditure by state, local, and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This action is not a major rule as defined by section 804 of the Small Business Regulatory Enforcement Fairness Act of 1996. This final rule will not result in an annual effect on the economy of $100,000,000 or more; a major increase in costs or prices; or significant adverse effects on competition, employment, investment, productivity, innovation, or on the ability of United States-based companies to compete with foreign-based companies in domestic and export markets.

Paperwork Reduction Act of 1995

The amended regulations contain no additional information collection or record-keeping requirements under the Paperwork Reduction Act of 1995, 44 U.S.C. 3501, et seq.

List of Subjects in 5 CFR Parts 2417, 2429, 2471 and Appendix A to Chapter XIV

Administrative practice and procedure, Government employees, Labor management relations.

For the reasons discussed in the preamble, the FLRA amends 5 CFR chapter XIV as follows:

PART 2417—TESTIMONY BY EMPLOYEES RELATING TO OFFICIAL INFORMATION AND PRODUCTION OF OFFICIAL RECORDS IN LEGAL PROCEEDINGS

1. The authority citation for part 2417 continues to read as follows:

Authority: 5 U.S.C. 7105; 31 U.S.C. 9701; 44 U.S.C. 3101-3107.

2. Amend § 2417.204 by revising paragraph (a) to read as follows:

§ 2417.204 Where to submit a request or demand.

(a) Requests or demands for official records, information, or testimony under this part must be served on the Office of the Solicitor at the following address: Office of the Solicitor, Federal Labor Relations Authority, 1400 K Street NW, Suite 300, Washington, DC 20424-0001; telephone: (771) 444-5775; fax: (202) 343-1007; or email: solmail@flra.gov. The request or demand must be sent by mail, fax, or email and clearly marked “Part 2417 Request for Testimony or Official Records in Legal Proceedings.”

* * * * *

PART 2429—MISCELLANEOUS AND GENERAL REQUIREMENTS

3. The authority citation for part 2429 continues to read as follows:

Authority: 5 U.S.C. 7134; § 2429.18 also issued under 28 U.S.C. 2112(a).

4. Amend § 2429.24 by revising paragraph (a) to read as follows:

§ 2429.24 Place and method of filing; acknowledgement.

(a) Except for documents that are filed electronically through use of the eFiling system on the FLRA's website at www.flra.gov, anyone who files a document with the Authority (as distinguished from the General Counsel, a Regional Director, or an Administrative Law Judge) must file that document with the Chief, Case Intake and Publication, Federal Labor Relations Authority, Docket Room, Suite 300, 1400 K Street NW, Washington, DC 20424-0001 (telephone: (771) 444-5805). To file documents by personal delivery, you must schedule an appointment at least one business day in advance by calling the telephone number in the previous sentence. Personal delivery is accepted by appointment Monday through Friday (except federal holidays). If you file documents electronically through use of the FLRA's eFiling system, then you may file those documents on any calendar day—including Saturdays, Sundays, and federal legal holidays—and the Authority will consider those documents filed on a particular day if you file them no later than 11:59 p.m. Eastern Time on that day. Note, however, that although you may eFile documents on Saturdays, Sundays, and federal legal holidays, you are not required to do so. Also note that you may not file documents with the Authority by electronic mail (“email”).

* * * * *

5. Amend § 2429.25 by:

a. Revising paragraph (a),

b. Removing paragraph (b)(1), and

c. Redesignating paragraphs (b)(2) through (b)(4) as paragraphs (b)(1) through (b)(3).

The revision reads as follows:

§ 2429.25 Number of copies and paper size.

(a) General rule. Except as discussed in paragraph (b) of this section, and unless you use an FLRA-prescribed form, any document that you file with the Authority, General Counsel, Administrative Law Judge, Regional Director, or Hearing Officer, including any attachments, must be on 8½ by 11-inch size paper, using normal margins and font sizes. You must file one original document, but you may substitute for the original document a clean copy of that document, so long as the copy is capable of being used as an original for purposes such as further reproduction.

* * * * *

PART 2471—PROCEDURES OF THE PANEL

6. The authority citation for part 2471 continues to read as follows:

Authority: 5 U.S.C. 7119, 7134.

7. Revise § 2471.2 to read as follows:

§ 2471.2 Request form.

A form is available for parties to use in filing either a request for consideration of an impasse or an approval of a binding arbitration procedure. Copies are available on the FLRA's website at www.flra.gov, or from the Office of the Executive Director, Federal Service Impasses Panel, Suite 300, 1400 K Street NW, Washington, DC 20424-0001. Telephone (771) 444-5762. Use of the form is not required, provided that the request includes all of the information set forth in § 2471.3.

8. Revise § 2471.4 to read as follows:

§ 2471.4 Where to file.

Requests to the Panel provided for in this part must either be filed electronically through use of the eFiling system on the FLRA's website at www.flra.gov, or be addressed to the Executive Director, Federal Service Impasses Panel, Suite 300, 1400 K Street NW, Washington, DC 20424-0001. All inquiries or correspondence on the status of impasses or other related matters must be submitted by regular mail to the street address above, by using the telephone number (771) 444-5762, or by using the facsimile number (202) 482-6674.

Appendix A to 5 CFR Chapter XIV—Current Addresses and Geographic Jurisdiction

9. The authority citation for Appendix A to 5 CFR Chapter XIV continues to read as follows:

Authority: 5 U.S.C. 7134.

10. Revise Appendix A to 5 CFR Chapter XIV to read as follows:

Appendix A to 5 CFR Chapter XIV—Current Addresses and Geographic Jurisdictions

(a) The Office address, telephone number, and fax number of the Authority are: Suite 300, 1400 K Street NW, Washington, DC 20424-0001; telephone: (771) 444-5801; fax: (202) 482-6657.

(b) The Office address, telephone number, and fax number of the General Counsel are: 1400 K Street NW, 3rd Floor, Washington, DC 20424; telephone: (771) 444-5790; fax: (202) 482-6608.

(c) The Office address, telephone number, and fax number of the Chief Administrative Law Judge are: Suite 300, 1400 K Street NW, Washington, DC 20424; telephone: (771) 444-5715; fax: (202) 482-6629.

(d) The Office addresses, telephone and fax numbers of the Regional Offices of the Authority are as follows:

(1) Washington, DC Regional Office—1400 K Street NW, 3rd Floor, Washington, DC 20424-0001; telephone: (771) 444-5780; fax: (202) 482-6724.

(2) Atlanta Regional Office—229 Peachtree Street NE, Suite 900, Atlanta, Georgia 30303; telephone: (470) 681-7630; fax: (678) 498-2697.

(3) Chicago Regional Office—224 S Michigan Avenue, Suite 445, Chicago, Illinois 60604-2505; telephone: (872) 627-0020; fax: (312) 281-6500.

(4) Denver Regional Office—1244 Speer Boulevard, Suite 446, Denver, Colorado 80204-3581; telephone: (303) 225-0340; fax: (303) 844-2774.

(5) San Francisco Regional Office—1301 Clay Street, Suite 1180N, Oakland, California 94612-5242; telephone: (510) 982-5440; fax: (415) 872-1445.

(e) The Office address, telephone number, and fax number of the Federal Service Impasses Panel are: Suite 300, 1400 K Street NW, Washington, DC 20424; telephone: (771) 444-5762; fax: (202) 482-6674.

(f) The geographic jurisdictions of the Regional Directors of the Federal Labor Relations Authority are as follows:

State or other locality | Regional office
Alabama | Atlanta.
Alaska | San Francisco.
Arizona | Denver.
Arkansas | Atlanta.
California | San Francisco.
Colorado | Denver.
Connecticut | Washington, DC.
Delaware | Washington, DC.
District of Columbia | Washington, DC.
Florida | Atlanta.
Georgia | Atlanta.
Hawaii and all land and water areas west of the continents of North and South America (except coastal islands) to long. 90 degrees East | San Francisco.
Idaho | San Francisco.
Illinois | Chicago.
Indiana | Chicago.
Iowa | Chicago.
Kansas | Denver.
Kentucky | Chicago.
Louisiana | Atlanta.
Maine | Washington, DC.
Maryland | Washington, DC.
Massachusetts | Washington, DC.
Michigan | Chicago.
Minnesota | Chicago.
Mississippi | Atlanta.
Missouri | Chicago.
Montana | Denver.
Nebraska | Denver.
Nevada | San Francisco.
New Hampshire | Washington, DC.
New Jersey | Washington, DC.
New Mexico | Denver.
New York | Washington, DC.
North Carolina | Atlanta.
North Dakota | Chicago.
Ohio | Chicago.
Oklahoma | Denver.
Oregon | San Francisco.
Pennsylvania | Washington, DC.
Puerto Rico and coastal islands | Chicago.
Rhode Island | Washington, DC.
South Carolina | Atlanta.
South Dakota | Chicago.
Tennessee | Chicago.
Texas | Denver.
Utah | Denver.
Vermont | Washington, DC.
Virginia | Washington, DC.
Washington | San Francisco.
West Virginia | Washington, DC.
Wisconsin | Chicago.
Wyoming | Denver.
Virgin Islands | Atlanta.
Panama/limited FLRA jurisdiction | Atlanta.
All land and water areas east of the continents of North and South America to long. 90 degrees East, except the Virgin Islands, Panama, Puerto Rico and coastal islands | Washington, DC.

Approved: February 8, 2024.
Thomas Tso,
Solicitor and Federal Register Liaison, Federal Labor Relations Authority.

[FR Doc. 2024-02912 Filed 2-14-24; 8:45 am]

BILLING CODE 7627-01-P